DEPARTMENT OF DEFENSE

Defense Acquisition Regulations System

[OMB Control Number 0704-0441; Docket Number DARS-2016-0019]

Information Collection Requirement; Defense Federal Acquisition Regulation Supplement (DFARS); Quality Assurance

AGENCY: Defense Acquisition Regulations System, Department of Defense (DoD).

ACTION: Notice and request for comments regarding a proposed revision of an approved information collection requirement.

SUMMARY: In compliance with section 3506(c)(2)(A) of the Paperwork Reduction Act of 1995 (44 U.S.C. chapter 35), DoD announces the proposed revision of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through July 31, 2016. DoD proposes that OMB extend its approval for use for three additional years beyond the current expiration date.

DATES: DoD will consider all comments received by July 12, 2016.

ADDRESSES: You may submit comments, identified by OMB Control Number 0704-0441, using any of the following methods:

Federal eRulemaking Portal: http://www.regulations.gov. Follow the instructions for submitting comments.

Email: osd.dfars@mail.mil. Include OMB Control Number 0704-0441 in the subject line of the message.

Fax: 571-372-6094.

Mail: Defense Acquisition Regulations System, Attn: Ms. Jo Ann Reilly, OUSD(AT&L)DPAP(DARS), 3060 Defense Pentagon, Room 3B941, Washington, DC 20301-3060.

Comments received generally will be posted without change to http://www.regulations.gov, including any personal information provided.

FOR FURTHER INFORMATION CONTACT: Ms. Jo Ann Reilly, at 571-372-6098. The information collection requirements addressed in this notice are available on the World Wide Web at: http://www.acq.osd.mil/dpap/dars/dfarspgi/current/index.html. Paper copies are available from Ms. Jo Ann Reilly, OUSD(AT&L)DPAP(DARS), 3060 Defense Pentagon, Room 3B941, Washington, DC 20301-3060.

SUPPLEMENTARY INFORMATION:

Title and OMB Number: Defense Federal Acquisition Regulation Supplement (DFARS), Part 246, Quality Assurance and Related Clauses in 252.246; OMB Control Number 0704-0441.

Needs and Uses: DoD needs to ensure that the Government receives timely notification of item nonconformances or deficiencies that could impact safety. The Procuring Contracting Officer and the Administrative Contracting Officer use the information to ensure that the customer is aware of potential safety issues in delivered products, has a basic understanding of the circumstances, and has a point of contact to begin addressing a mutually acceptable plan of action. In addition, DoD needs to track warranties for Item Unique Item Identification (IUID) required items in the IUID registry. The identification and enforcement of warranties is essential to the effectiveness and efficiency of DoD's material readiness.

Affected Public: Businesses or other for-profit and not-for profit institutions.

Number of Respondents: 54,250.

Responses per Respondent: 1.

Annual Responses: 54,250.

Average Burden per Response: Approximately .5 hour.

Annual Burden Hours: 27,250.

Reporting Frequency: On occasion.

Summary of Information Collection

This information collection includes requirements relating to DFARS part 246, Quality Assurance. The information collections under OMB Control Number 0704-0441 are expanded to pertain to all information that offerors or contractors must submit related to DFARS part 246 contract quality assurance programs. Therefore, this justification supports a request for renewal of OMB Control Number 0704-0441 to include the incorporation of the burden currently cleared under OMB Control Number 0704-0481, which expires June 30, 2017. Upon the renewal of OMB Control Number 0704-0441, OMB Control Number 0704-0481 and its associated burden will be discontinued.

a. 252.246-7003, Notification of Potential Safety Issues, requires contractors to provide notification of (1) all nonconformances for parts identified as critical safety items acquired by the Government under the contract, and (2) all nonconformances or deficiencies that may result in a safety impact for systems, or subsystems, assemblies, subassemblies, or parts integral to a system acquired by or serviced for the Government under the contract.

b. 252.246-7005, Notice of Warranty Tracking of Serialized Items, requires an offeror to provide with its offer, for each contract line item number, warranty tracking information for each warranted item.

c. 252.246-7006, Warranty Tracking of Serialized Items, requires contractors, for warranted items, to provide (1) the unique item identifier, and (2) the warranty repair source information and instructions.

Jennifer L. Hawes,
Editor, Defense Acquisition Regulations System.

[FR Doc. 2016-11373 Filed 5-12-16; 8:45 am]

BILLING CODE 5001-06-P